ENVIRONMENTAL PROTECTION AGENCY

[EPA-HQ-OPP-2009-0592; FRL-8432-1]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by September 11, 2009 for these registrations, for which the registrant requested a waiver of the 180-day comment period, orders will be issued canceling these registrations. The Agency will consider withdrawal requests postmarked no later than September 11, 2009 Comments must be received on or before September 11, 2009.

ADDRESSES: Submit your comments and your withdrawal request, identified by docket identification (ID) number EPA-HQ-OPP-2009-0592, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written withdrawal requests, Attention: Barbara Briscoe, Product Reregistration Branch, Special Review and Reregistration Division, (7508P).

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2009-0592. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information for which disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Barbara Briscoe, Special Review and Reregistration Division, Office of Pesticide Programs, Environmental Protection Agency, 1200 Pennsylvania Ave., NW., Washington, DC 20460-0001; telephone number: (703) 308-8177; e-mail address: briscoe.barbara@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 48 pesticide products registered under section 3 or 24(c) of FIFRA. These registrations are listed in sequence by registration number (or company number and 24(c) number) in Table 1 of this unit:

Table 1.—Registrations with Pending Requests for Cancellation
Registration No. | Product Name | Chemical Name
228-195 | Riverdale DP-4 Amine | 2,4-DP
352-694 | Tenn-Cop 5E | Copper Salts
478-76 | Real Kill Flying Insect Killer | Resmethrin
478-77 | Real Kill Indoor/Outdoor Plus | Resmethrin
478-86 | Real Kill Liquid House and Garden Bug Killer for House Plants | Resmethrin
478-122 | Real Kill Automatic Indoor Plus | Resmethrin
769-628 | SMCP Vapona Insecticide 50% Concentrate Solution | Aliphatic Solvents
769-646 | x-Cel Oil plus Malathion | Aliphatic Solvents
769-728 | Seven Brand Carbaryl Insecticide 5% Turf Insecticide Granules | Carbaryl
769-843 | Pratt's Summer Spray Oil | Aliphatic Solvents
769-848 | Pratt's 6N Superior Oil | Aliphatic Solvents
769-886 | Agrisect Superior Oil | Aliphatic Solvents
769-928 | Warner Enterprises Indoor Insect Fogger | Aliphatic Solvents
5481-428 | NAA 800 | Naphthalene Acetic Acid
5481-432 | Technical 1-Naphthalene Acetic Acid Sodium Salt | Naphthalene Acetic Acid
8660-83 | White Fly Spray | Resmethrin
8660-138 | Flea and Tick Pet Spray | Resmethrin
8845-33 | Vertagreen Professional Use with Dacthal | Resmethrin
8845-64 | Vertagreen Weed & Feed | Resmethrin
8845-65 | Vertagreen Copper Sulfate Crystals | Resmethrin
8845-74 | Pro - Tek with Balan | Resmethrin
9688-21 | Chemsico Insecticide for Flying Insects | Resmethrin
9688-48 | Chemsico Wasp and Hornet Killer II | Resmethrin
9688-49 | Chemsico Wasp and Hornet Killer III | Resmethrin
9688-102 | Chemsico Home Insect Control Spray A | Resmethrin
9688-223 | Chemsico Insecticide FR | Resmethrin
10807-208 | Misty Root Killer | Copper Sulfate
46515-45 | Wasp & Hornet Killer 4 | Resmethrin
71368-32 | Nufarm 2,4 DB Weed Killer | 2,4 DB
71368-33 | Nufarm Buticide 200 Weed Killer | 2,4 DB
73049-317 | Cyperkil EC | Cypermethrin
73049-318 | Cyperkil WSB | Cypermethrin
75402-2 | HILO Premises Spray | Piperonyl Butoxide
75402-3 | Aloe Care Flea & Tick Shampoo | Piperonyl Butoxide
AL820033 | Temik Brand 15G Aldicarb Pesticide-Use on Pecans | Aldicarb
AL870008 | Pecans Growing Under Drip Irrigation | Aldicarb
AZ820015 | Temik Brand 15G Aldicarb Pesticide-Pecans | Aldicarb
GA090004 | Temik Brand 15G Aldicarb Pesticide | Aldicarb
GA820013 | Temik Brand 15G Aldicarb Pesticide-Use on Pecans | Aldicarb
GA870003 | Temik Brand 15G Aldicarb Pesticide-Use on Pecans Growing Under Drip Irrigation | Aldicarb
MS830009 | Temik Brand 15G Aldicarb Pesticide-Use on Pecans | Aldicarb
NC780021 | Temik Brand 15G Aldicarb Pesticide-Use on Flue-Cured Tobacco | Aldicarb
NC820008 | Temik Brand 15G Aldicarb Pesticide-Use on Flue-Cured Tobacco | Aldicarb
NM820016 | Temik Brand 15G Aldicarb Pesticide-Use on Pecans | Aldicarb
SC830009 | Temik Brand 15G Aldicarb Pesticide-Use on Pecans | Aldicarb
SC090003 | Temik Brand 15G Aldicarb Pesticide | Aldicarb
TX790010 | Termik Brand 15G Aldicarb Pesticide | Aldicarb
VA820013 | Termik Brand 15G Aldicarb Pesticide-Use on Flue-Cured Tobacco | Aldicarb

Unless a request is withdrawn by the registrant within 30 days of publication of this notice, orders will be issued canceling all of these registrations. Users of these pesticides or anyone else desiring the retention of a registration should contact the applicable registrant directly during this 30-day period.

Table 2 of this unit includes the names and addresses of record for all registrants of the products in Table 1 of this unit, in sequence by EPA company number:

Table 2.—Registrants Requesting Voluntary Cancellations
EPA Company No. | Company Name and Address
228 | Nufarm Americas, Inc. 150 Harvester Dr., Suite 200 Burr Ridge, IL 60527
352 | Dupont Crop Protection 1007 Market Street Wilmington, DE 19898
478 | Div. of United Industries, Corp. PO Box 142642 St. Louis, MO 63114
769 | Value Gardens Supply, LLC D/B/A Value Garden Supply PO Box 585 St Joseph, MO 64502
5481 | Amvac Chemical Corp. D/B/A Amvac 4695 MacArthur Court, Suite 200 Newport Beach, CA 92660
8660 | United Industries D/B/A Sylorr Plant Corp. PO Box 142642 St. Louis, MO 63114
8845 | Spectrum Group Div. of United Industries Corp. PO Box 142642 St. Louis, MO 63114
9688 | Chemsico Div. of United Industries Corp. PO Box 142642 St. Louis, MO 63114
10807 | Amrep, Inc. 990 Industrial Park Drive Marietta, GA 30062
46515 | Celex, Div. of United Industries Corp. PO Box 142642 St. Louis, MO 63114
71368 | Nufarm, Inc. 150 Harvester Drive, Suite 200 Burr Ridge, IL 60527
73049 | Valent Biosciences Corp. 870 Technology Way, Suite 100 Libertyville, IL 60068
75402 | Boss Pet Products, Inc. 1645 Rockside Road, Suite 200 Maple Heights, OH 44137
AL820033 | Bayer Cropscience, LP 2 T.W. Alexander Drive Research Triangle Park, NC 27709
AL870008 | Bayer Cropscience, LP 2 T.W. Alexander Drive Research Triangle Park, NC 27709
AZ820015 | Bayer Cropscience, LP 2 T.W. Alexander Drive Research Triangle Park, NC 27709
GA090004 | Bayer Cropscience, LP 2 T.W. Alexander Drive Research Triangle Park, NC 27709
GA820013 | Bayer Cropscience, LP 2 T.W. Alexander Drive Research Triangle Park, NC 27709
GA870003 | Bayer Cropscience, LP 2 T.W. Alexander Drive Research Triangle Park, NC 27709
MS830009 | Bayer Cropscience, LP 2 T.W. Alexander Drive Research Triangle Park, NC 27709
NC780021 | Bayer Cropscience, LP 2 T.W. Alexander Drive Research Triangle Park, NC 27709
NC820008 | Bayer Cropscience, LP 2 T.W. Alexander Drive Research Triangle Park, NC 27709
NM820016 | Bayer Cropscience, LP 2 T.W. Alexander Drive Research Triangle Park, NC 27709
SC830009 | Bayer Cropscience, LP 2 T.W. Alexander Drive Research Triangle Park, NC 27709
SC090003 | Bayer Cropscience, LP 2 T.W. Alexander Drive Research Triangle Park, NC 27709
TX90010 | Bayer Cropscience, LP 2 T.W. Alexander Drive Research Triangle Park, NC 27709
VA820013 | Bayer Cropscience, LP 2 T.W. Alexander Drive Research Triangle Park, NC 27709

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked no later than September 11, 2009. This written withdrawal of the request for cancellation will apply only to the applicable FIFRA section 6(f)(1) request listed in this notice. If the products have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks until all stocks are exhausted, unless other factors (such as hazard) necessitate modified terms. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: August 5, 2009.
Patricia L. Moe,
Acting Director, Special Review and Reregistration Division, Office of Pesticide Programs.

[FR Doc. E9-19311 Filed 8-11-09; 8:45 am]

BILLING CODE 6560-50-S